DEPARTMENT OF ENERGY

Federal Energy Regulatory Commission

Combined Notice of Filings

Take notice that the Commission has received the following Natural Gas Pipeline Rate and Refund Report filings:

Filings Instituting Proceedings

Docket Numbers: PR26-18-000.

Applicants: The East Ohio Gas Company.

Description: § 284.123(g) Rate Filing: Operating Statement of the East Ohio Gas Company 11/1/2025 to be effective 11/1/2025.

Filed Date: 12/1/25.

Accession Number: 20251201-5622.

Comment Date: 5 p.m. ET 12/22/25.

§ 284.123(g) Protest: 5 p.m. ET 1/30/26.

Docket Numbers: PR26-19-000.

Applicants: Black Hills/Kansas Gas Utility Company, LLC.

Description: § 284.123 Rate Filing: BHKG Rate Change Filing to be effective 1/1/2026.

Filed Date: 12/2/25.

Accession Number: 20251202-5091.

Comment Date: 5 p.m. ET 12/23/25.

Docket Numbers: RP26-254-000.

Applicants: Mountain Valley Pipeline, LLC.

Description: § 4(d) Rate Filing: Negotiated Rate Capacity Release Agreements—12/1/2025 to be effective 12/1/2025.

Filed Date: 12/1/25.

Accession Number: 20251201-5548.

Comment Date: 5 p.m. ET 12/15/25.

Docket Numbers: RP26-260-000.

Applicants: MarkWest Pioneer, L.L.C.

Description: § 4(d) Rate Filing: Quarterly Fuel Adjustment Filing to be effective 1/1/2026.

Filed Date: 12/1/25.

Accession Number: 20251201-5545.

Comment Date: 5 p.m. ET 12/15/25.

Docket Numbers: RP26-261-000.

Applicants: Spire MoGas Pipeline LLC.

Description: § 4(d) Rate Filing: Spire MoGas NRA and NonConform Agreements Filing to be effective 1/1/2026.

Filed Date: 12/1/25.

Accession Number: 20251201-5549.

Comment Date: 5 p.m. ET 12/15/25.

Docket Numbers: RP26-262-000.

Applicants: NEXUS Gas Transmission, LLC.

Description: § 4(d) Rate Filing: Negotiated Rates—Various eff 12-1-25 to be effective 12/1/2025.

Filed Date: 12/1/25.

Accession Number: 20251201-5552.

Comment Date: 5 p.m. ET 12/15/25.

Docket Numbers: RP26-263-000.

Applicants: Algonquin Gas Transmission, LLC.

Description: § 4(d) Rate Filing: Negotiated Rates—Various Releases eff 12-1-2025 to be effective 12/1/2025.

Filed Date: 12/1/25.

Accession Number: 20251201-5554.

Comment Date: 5 p.m. ET 12/15/25.

Docket Numbers: RP26-264-000.

Applicants: Spire STL Pipeline LLC.

Description: Tariff Amendment: MoGas STL Tariff Cancellation Filing to be effective 1/1/2026.

Filed Date: 12/1/25.

Accession Number: 20251201-5557.

Comment Date: 5 p.m. ET 12/15/25.

Docket Numbers: RP26-265-000.

Applicants: Eastern Shore Natural Gas Company.

Description: § 4(d) Rate Filing: Capital Cost Surcharge Eff. January 1. 2026 to be effective 1/1/2026.

Filed Date: 12/1/25.

Accession Number: 20251201-5618.

Comment Date: 5 p.m. ET 12/15/25.

Docket Numbers: RP26-266-000.

Applicants: Natural Gas Pipeline Company of America LLC.

Description: § 4(d) Rate Filing: Negotiated Rate Agreements—Dairyland Power Cooperative to be effective 12/1/2025.

Filed Date: 12/1/25.

Accession Number: 20251201-5629.

Comment Date: 5 p.m. ET 12/15/25.

Docket Numbers: RP26-267-000.

Applicants: Rendezvous Pipeline Company, LLC.

Description: Compliance filing: Compliance Informational Filing to be effective N/A.

Filed Date: 12/1/25.

Accession Number: 20251201-5631.

Comment Date: 5 p.m. ET 12/15/25.

Docket Numbers: RP26-268-000.

Applicants: Transcontinental Gas Pipe Line Company, LLC.

Description: § 4(d) Rate Filing: WSS Base Gas—Chesapeake Maryland Name Change to be effective 11/1/2025.

Filed Date: 12/1/25.

Accession Number: 20251201-5666.

Comment Date: 5 p.m. ET 12/15/25.

Docket Numbers: RP26-269-000.

Applicants: Maritimes & Northeast Pipeline, L.L.C.

Description: § 4(d) Rate Filing: Negotiated Rates—Northern to NRG Bus Mktg—eff 12-1-25 to be effective 12/1/2025.

Filed Date: 12/1/25.

Accession Number: 20251201-5667.

Comment Date: 5 p.m. ET 12/15/25.

Docket Numbers: RP26-270-000.

Applicants: Transcontinental Gas Pipe Line Company, LLC.

Description: § 4(d) Rate Filing: 2025 Interim Fuel Tracker Filing to be effective 1/1/2026.

Filed Date: 12/1/25.

Accession Number: 20251201-5670.

Comment Date: 5 p.m. ET 12/15/25.

Docket Numbers: RP26-271-000.

Applicants: Texas Eastern Transmission, LP.

Description: § 4(d) Rate Filing: Negotiated Rates—Various Releases eff 12-1-25 to be effective 12/1/2025.

Filed Date: 12/1/25.

Accession Number: 20251201-5687.

Comment Date: 5 p.m. ET 12/15/25.

Docket Numbers: RP26-272-000.

Applicants: Millennium Pipeline Company, LLC.

Description: Compliance filing: BEST Lateral Rate Implementation Compliance—CP25-147 to be effective 1/1/2026.

Filed Date: 12/1/25.

Accession Number: 20251201-5703.

Comment Date: 5 p.m. ET 12/15/25.

Docket Numbers: RP26-273-000.

Applicants: Gulf South Pipeline Company, LLC.

Description: § 4(d) Rate Filing: Cap Rel Neg Rate Agmt (Osaka 46428 to Sequent 60087) to be effective 12/1/2025.

Filed Date: 12/1/25.

Accession Number: 20251201-5711.

Comment Date: 5 p.m. ET 12/15/25.

Docket Numbers: RP26-274-000.

Applicants: Millennium Pipeline Company, LLC.

Description: § 4(d) Rate Filing: NRG Business Negotiated & Non-Conforming Agmt—BEST Lateral Project to be effective 1/1/2026.

Filed Date: 12/1/25.

Accession Number: 20251201-5717.

Comment Date: 5 p.m. ET 12/15/25.

Docket Numbers: RP26-275-000.

Applicants: Texas Gas Transmission, LLC.

Description: § 4(d) Rate Filing: Neg Rate Agmt Filing (DTE 34937) to be effective 12/1/2025.

Filed Date: 12/1/25.

Accession Number: 20251201-5725.

Comment Date: 5 p.m. ET 12/15/25.

Docket Numbers: RP26-276-000.

Applicants: Rover Pipeline LLC.

Description: § 4(d) Rate Filing: Summary of Negotiated Rate Capacity Release Agreements 12-2-2025 to be effective 12/1/2025.

Filed Date: 12/2/25.

Accession Number: 20251202-5094.

Comment Date: 5 p.m. ET 12/15/25.05DE3.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. The filings are accessible in the Commission's eLibrary system (https://elibrary.ferc.gov/idmws/search/fercgensearch.asp) by querying the docket number.

eFiling is encouraged. More detailed information relating to filing requirements, interventions, protests, service, and qualifying facilities filings can be found at: http:/www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 2, 2025.
Carlos D. Clay,
Deputy Secretary.

[FR Doc. 2025-22117 Filed 12-4-25; 8:45 am]

BILLING CODE 6717-01-P